DEPARTMENT OF HOMELAND SECURITY

Federal Emergency Management Agency

[Docket ID FEMA-2019-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of April 5, 2019 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
San Mateo County, California and Incorporated Areas
Docket No.: FEMA-B-1604
City of Belmont | Public Works Department, One Twin Pines Lane, Belmont, CA 94002.
City of Brisbane | Public Works, 50 Park Place, Brisbane, CA 94005.
City of Burlingame | City Hall, 501 Primrose Road, Burlingame, CA 94010.
City of East Palo Alto | Community and Economic Development Department, 1960 Tate Street, East Palo Alto, CA 94303.
City of Foster City | Public Works, 610 Foster City Boulevard, Foster City, CA 94404.
City of Menlo Park | City Hall, 701 Laurel Street, Menlo Park, CA 94025.
City of Millbrae | City Hall, 621 Magnolia Avenue, Millbrae, CA 94030.
City of Redwood City | City Hall, 1017 Middlefield Road, Redwood City, CA 94063.
City of San Bruno | City Hall, 567 El Camino Real, San Bruno, CA 94066.
City of San Carlos | Building Division, 600 Elm Street, San Carlos, CA 94070.
City of San Mateo | Public Works Department, 330 West 20th Avenue, San Mateo, CA 94403.
City of South San Francisco | City Hall, 400 Grand Avenue, South San Francisco, CA 94080.
Unincorporated Areas of San Mateo County | San Mateo County Planning and Building Department, 455 County Center, Redwood City, CA 94063.
Eastland County, Texas and Incorporated Areas
Docket No.: FEMA-B-1745
City of Ranger | City Hall, 400 West Main Street, Ranger, TX 76470.
Unincorporated Areas of Eastland County | Eastland County Judge's Office, 100 West Main Street, Suite 203, Eastland, TX 76448.
Erath County, Texas and Incorporated Areas
Docket No.: FEMA-B-1745
Unincorporated Areas of Erath County | Erath County Courthouse, 100 West Washington Street, Stephenville, TX 76401.
Hood County, Texas and Incorporated Areas
Docket No.: FEMA-B-1745
City of DeCordova | DeCordova Bend Estates Country Club, 5301 Country Club Drive, Granbury, TX 76049.
City of Granbury | Municipal Service Center, 401 North Park Street, Granbury, TX 76048.
Unincorporated Areas of Hood County | Hood County Environmental Health Department, 201 West Bridge Street, Granbury, TX 76048.
Johnson County, Texas and Incorporated Areas
Docket No.: FEMA-B-1745
Unincorporated Areas of Johnson County | Johnson County Public Works Department, Johnson County Annex, 2 North Mill Street, Suite 305, Cleburne, TX 76033.
Palo Pinto County, Texas and Incorporated Areas
Docket No.: FEMA-B-1745
City of Gordon | City Hall, 105 South Main Street, Gordon, TX 76453.
City of Graford | City Hall, 424 East Lee Avenue, Graford, TX 76449.
City of Mineral Wells | City Clerk's Office, 115 Southwest 1st Street, Mineral Wells, TX 76067.
City of Mingus | City Hall, 229 South Mingus Boulevard, Mingus, TX 76463.
City of Strawn | City Hall, 118 East Housley Street, Strawn, TX 76475.
Unincorporated Areas of Palo Pinto County | Emergency Management Department, 109 North Oak Avenue, Mineral Wells, TX 76067.
Parker County, Texas and Incorporated Areas
Docket No.: FEMA-B-1745
City of Millsap | City Hall, 208 Fannin Street, Millsap, TX 76066.
City of Mineral Wells | City Clerk's Office, 115 Southwest 1st Street, Mineral Wells, TX 76067.
City of Weatherford | Utilities Service Center, 917 Eureka Street, Weatherford, TX 76086.
Town of Cool | Cool Community Center, 150 South Farm to Market Road 113, Millsap, TX 76066.
Unincorporated Areas of Parker County | Parker County Permitting Department, 1114 Santa Fe Drive, Weatherford, TX 76086.
Stephens County, Texas and Incorporated Areas
Docket No.: FEMA-B-1745
Unincorporated Areas of Stephens County | Stephens County Judge's Office, 200 West Walker Street, Breckenridge, TX 76424.
Young County, Texas and Incorporated Areas
Docket No.: FEMA-B-1745
Unincorporated Areas of Young County | Young County 911 Director's Office, 516 4th Street, Room B5, Graham, TX 76450.
Marion County, West Virginia and Incorporated Areas
Docket No.: FEMA-B-1763
City of Fairmont | J. Harper Meredith Building, 200 Jackson Street, 3rd Floor—Planning, Fairmont, WV 26554.
Unincorporated Areas of Marion County | Marion County J. Harper Meredith Building, 200 Jackson Street, Room 403 Fairmont, WV 26554.
Monongalia County, West Virginia and Incorporated Areas
Docket No.: FEMA-B-1763
City of Morgantown | City Hall, 389 Spruce Street, Morgantown, WV 26505.
City of Westover | City Hall, 500 Dupont Road, Westover, WV 26501.
Town of Granville | Town Hall, 1245 Main Street, Granville, WV 26534.
Town of Star City | Municipal Building, 370 Broadway Avenue, Star City, WV 26505.
Unincorporated Areas of Monongalia County | Monongalia County Floodplain Permit Office, 243 High Street, Courthouse Room 110, Morganton, WV 26505.

[FR Doc. 2019-03378 Filed 2-26-19; 8:45 am]

BILLING CODE 9110-12-P